Proclamation 8886 of October 9, 2012

50th Anniversary of the Office of the United States Trade Representative

By the President of the United States of America

A Proclamation

On October 11, 1962, President John F. Kennedy signed the Trade Expansion Act—a landmark piece of legislation that established a Special Representative for Trade Negotiations who would be tasked with promoting and securing trade agreements with partner countries around the world. Fifty years after that historic event, the Office of the United States Trade Representative (USTR) continues to play a vital role in advancing trade policy that opens new markets for American exports, and that creates and supports jobs right here at home.

Throughout its history, USTR has worked to level the playing field for American workers and create more opportunities for our businesses to compete in global markets. The agency has supported America's commitment to market-based competition and innovation, helping draw good jobs and growing industries to our shores. USTR has striven to promote stability, transparency, high standards, and accountability in international trade.

Today, USTR continues to monitor and enforce our existing trade agreements to ensure trading partners honor their commitments. USTR successfully secured important improvements to our trade agreements with Korea, Colombia, and Panama that I proudly signed into law last year. The agency's efforts to expand trade remain a vital part of my Administration's strategy for an economy built to last.

On this anniversary, we recognize the dedicated professionals who have upheld USTR's mission for half a century, and we applaud their ongoing work to make America the best place in the world to innovate, invest, work, and build a business.

NOW, THEREFORE, I, BARACK OBAMA, President of the United States of America, by virtue of the authority vested in me by the Constitution and the laws of the United States, do hereby proclaim October 11, 2012, as the 50th Anniversary of the Office of the United States Trade Representative. I call upon all Americans to observe this day with appropriate programs, ceremonies, and activities that recognize the Office of the United States Trade Representative for its many contributions to strengthening American leadership in the global trading system.

IN WITNESS WHEREOF, I have hereunto set my hand this ninth day of October, in the year of our Lord two thousand twelve, and of the Independence of the United States of America the two hundred and thirty-seventh.

[FR Doc. 2012-25504

Filed 10-15-12; 8:45 am]

Billing code 3295-F3